DEPARTMENT OF THE INTERIOR

Bureau of Land Management

[OR-110-0777-30-24-1A; HAG0-0145]

Notice of Availability of Draft Management Plan/Environmental Impact Statement (DEIS) for the Cascade Siskiyou Ecological Emphasis Area

AGENCY: Bureau of Land Management.

ACTION: Notice of Availability of Draft Management Plan/Environmental Impact Statement (DEIS) for the Cascade Siskiyou Ecological Emphasis Area.

SUMMARY: In accordance with Section 202 of the National Environmental Policy Act of 1969 and Section 202 of the Federal Land Policy and Management Act of 1976, a Draft Management Plan/Environmental Impact Statement (DEIS) for the Cascade Siskiyou Ecological Emphasis Area (CSEEA) has been completed for a portion of the Medford District. The DEIS describes and analyzes future options for managing up to 52,407 acres in southern Jackson County, Oregon. The DEIS address boundary issues associated with adjacent BLM administered land in California. Management activity specific to those lands will be addressed by the BLM Redding Field Office.

Decisions generated during this planning process will partially supersede and supplement interim land use allocations and management direction for the CSEEA, which were analyzed in the 1994 Medford Resource Management (RMP) final EIS which was approved in 1995 in the Medford RMP Record of Decision. Major issues which are addressed include ecosystem management direction, potential use of prescribed fire, motorized recreation and possible off-highway-vehicle restrictions, livestock grazing and vegetation management objectives and expansion of existing or potential Areas of critical Environmental Concern.

DATES: Comments will be accepted until June 14, 2000.

ADDRESSES: Comments should be addressed to: Rich Drehobl, Field Manager, Ashland Resource Area, Bureau of Land Management, Medford District Office, 3040 Biddle Road, Medford, Oregon 97504.

Comments, including names and addresses, will be available for public review. Individual respondents may request confidentiality. If you wish to withhold your name and/or address from public review or from disclosure under the Freedom of Information Act, you must state this prominently at the beginning of your written comment. Such requests will be honored to the extent allowed by law.

SUPPLEMENTARY INFORMATION: Individual copies of the DEIS may be obtained by contacting Bill Yocum or Lorie List at 541/618-2384. The DEIS is also available on CD-ROM and at www.or.blm.gov/Medford.

Copies are also available for inspection at the following locations:

Southern Oregon University Library, Ashland, OR

Jackson County Library, Ashland Branch, OR

Siskiyou County Library, Yreka Branch, CA

The DEIS analyzes five alternatives ranging from emphasis on commodity extraction to emphasis on preservation.

A public meeting will be held on the proposal on Saturday, April 8, 2000, at 1 p.m. in the Arena Room/Stevenson Union at Southern Oregon University. Additional meetings will be considered if there is sufficient interest.

Public participation has occurred throughout the planning process. A Notice of Intent was published in the Federal Register on August 27, 1999. Since that time several open houses, public meetings and field tours were conducted to provide information and solicit comments and ideas. Any comments presented throughout the process have been considered.

The notice meets the requirements of 43 CFR 1610.5-5 for plan amendments and 43 CFR 1610.7-2 for designations of Areas of Critical Environmental Concern.

Dated: March 7, 2000.
Rich Drehobl,
Ashland Field Manager, Medford District.

[FR Doc. 00-6032 Filed 3-10-00; 8:45 am]

BILLING CODE 4310-33-M